SUSQUEHANNA RIVER BASIN COMMISSION

Actions Taken at the September 24, 2025 Meeting

AGENCY: Susquehanna River Basin Commission.

ACTION: Notice.

SUMMARY: As part of its regular business meeting held on September 24, 2025 in Harrisburg, Pennsylvania, the Commission approved the applications of certain water resources projects and took additional actions, as set forth in the SUPPLEMENTARY INFORMATION below.

DATES: September 25, 2025.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.gov. Regular mail inquiries may be sent to the above address. See also the Commission website at www.srbc.gov.

SUPPLEMENTARY INFORMATION: The Commission took the following actions at its September 24, 2025 business meeting: (1) adopted the preliminary Fiscal Year 2027 budget; (2) unanimously adopted the member jurisdiction allocation requests for Fiscal Year 2027; (3) approved a grant amendment with the PA Department of Environmental Protection; (4) approved two settlements of regulatory violations; and (5) approved 21 regulatory program projects and tabled one project as listed below.

Project Applications Approved

1. Project Sponsor and Facility: Blackhill Energy LLC (Chemung River), Athens Township, Bradford County, Pa. Application for renewal with modification of surface water withdrawal of up to 1.999 mgd (peak day) (Docket No. 20220903).

2. Project Sponsor: Calpine Mid Merit, LLC. Project Facility: York Energy Center 1, Peach Bottom Township, York County, Pa. Application for consumptive use of up to 4.900 mgd (peak day).

3. Project Sponsor: Calpine Mid Merit, LLC. Project Facility: York Energy Center 2 (Susquehanna River), Peach Bottom Township, York County, and Drumore Township, Lancaster County, Pa. Modification to surface water withdrawal of up to 19.010 mgd (peak day) and consumptive use of up to 5.800 mgd (peak day) (Docket No. 20060308).

4. Project Sponsor and Facility: City of Lock Haven, Wayne Township, Clinton County, Pa. Applications for groundwater withdrawals (30-day averages) of up to 0.720 mgd from the Matz Well and 0.720 mgd from the Quaker Hill Well.

5. Project Sponsor and Facility: Coterra Energy Inc., Eaton Township, Wyoming County, Pa. Application for renewal of groundwater withdrawals of up to 0.864 mgd (30-day average) from the Hatchery Wellfield (Wells 1, 2, and 3) (Docket No. 20200903).

6. Project Sponsor and Facility: Expand Operating LLC (Susquehanna River), Standing Stone Township, Bradford County, Pa. Application for surface water withdrawal of up to 4.000 mgd (peak day).

7. Project Sponsor and Facility: Expand Operating LLC (Susquehanna River), Wilmot Township, Bradford County, Pa. Application for renewal of surface water withdrawal of up to 3.000 mgd (peak day) (Docket No. 20200905).

8. Project Sponsor and Facility: Expand Operating LLC (Susquehanna River), Windham Township, Wyoming County, Pa. Application for renewal of surface water withdrawal of up to 3.000 mgd (peak day) (Docket No. 20200906).

9. Project Sponsor and Facility: Expand Operating LLC (Wyalusing Creek), Wyalusing Township, Bradford County, Pa. Application for renewal of surface water withdrawal of up to 3.000 mgd (peak day) (Docket No. 20200907).

10. Project Sponsor: Graymont (PA) Inc. Project Facility: Pleasant Gap Facility, Spring Township, Centre County, Pa. Application for renewal of groundwater withdrawal of up to 0.050 mgd (30-day average) from the Plant Make-Up Well (Docket No. 20100307).

11. Project Sponsor and Facility: Green Leaf Water LLC (Lycoming Creek), Lewis Township, Lycoming County, Pa. Application for renewal of surface water withdrawal of up to 0.900 mgd (peak day) (Docket No. 20200908).

12. Project Sponsor and Facility: Greylock Production, LLC (Pine Creek), Gaines Township, Tioga County, Pa. Application for surface water withdrawal of up to 3.000 mgd (peak day).

13. Project Sponsor and Facility: Hanover Foods Corporation, Penn and Heidelberg Townships, York County, Pa. Applications for renewal of consumptive use of up to 0.499 mgd (peak day) and groundwater withdrawals (30-day averages) of up to 0.072 mgd from Well PW-3, 0.144 mgd from Well PW-4, and 0.231 mgd from Well PW-5 (Docket Nos. 19980503 and 19991104).

14. Project Sponsor and Facility: Hegins-Hubley Authority, Hegins Township, Schuylkill County, Pa. Application for renewal of groundwater withdrawal of up to 0.216 mgd (30-day average) from Well 6 (Docket No. 19981204).

15. Project Sponsor: Hillandale-Gettysburg, L.P. Project Facility: Site 3, Tyrone Township, Adams County, Pa. Applications for groundwater withdrawals (30-day averages) of up to 0.019 mgd from Well 1, 0.035 mgd from Well 2, 0.035 mgd from Well 3, and 0.060 mgd from Well 4.

16. Project Sponsor and Facility: Lykens Borough Authority, Wiconisco Township, Dauphin County, Pa. Applications for groundwater withdrawals (30-day averages) of up to 0.393 mgd from Well 2 and 0.035 mgd from Well 3.

17. Project Sponsor and Facility: Pennsylvania General Energy Company, L.L.C. (Muncy Creek), Shrewsbury Township, Lycoming County, Pa. Application for surface water withdrawal of up to 1.500 mgd (peak day).

18. Project Sponsor and Facility: Repsol Oil & Gas USA, LLC (Susquehanna River), Sheshequin Township, Bradford County, Pa. Application for renewal of surface water withdrawal of up to 1.500 mgd (peak day) (Docket No. 20200913).

19. Project Sponsor and Facility: Sabre Energy Development LLC (Muncy Creek), Muncy Creek Township, Lycoming County, Pa. Application for surface water withdrawal of up to 1.700 mgd (peak day).

20. Project Sponsor and Facility: Sabre Energy Development LLC (Muncy Creek), Penn Township, Lycoming County, Pa. Application for surface water withdrawal of up to 1.700 mgd (peak day).

21. Project Sponsor: York Haven Power Company, LLC. Project Facility: York Haven Hydroelectric Project, Londonderry Township, Dauphin County; Conoy Township, Lancaster County; and York Haven Borough and Newberry Township, York County, Pa., Modification to the design of the nature-like fishway (Docket No. 20200308).

Project Tabled

22. Project Sponsor: Veolia Water Pennsylvania, Inc. Project Facility: Newberry Operation, Newberry Township, York County, Pa. Application for renewal of groundwater withdrawal of up to 0.121 mgd (30-day average) from the Paddletown Well (Docket No. 20090917).

Authority: Public Law 91-575, 84 Stat. 1509 et seq., 18 CFR parts 806, 807, and 808.

Dated: September 25, 2025.
Jason E. Oyler,
General Counsel and Secretary to the Commission.

[FR Doc. 2025-18831 Filed 9-26-25; 8:45 am]

BILLING CODE 7040-01-P